NUCLEAR REGULATORY COMMISSION

Proposed Generic Communication; Endorsement of Nuclear Energy Institute Guidance “Enhancements to Emergency Preparedness Programs for Hostile Action”

AGENCY: Nuclear Regulatory Commission (NRC).

ACTION: Notice of opportunity for public comment.

SUMMARY: The NRC is proposing to issue a regulatory issue summary (RIS) to endorse the Nuclear Energy Institute (NEI) guidance entitled “Enhancements to Emergency Preparedness Programs for Hostile Action” (revised in November 2005) as an acceptable implementation methodology that licensees may use when adopting the program enhancements discussed in NRC Bulletin 2005-02, “Emergency Preparedness and Response Actions for Security-Based Events.”

The NEI document attached to this RIS may be found in the NRC's Agencywide Documents Access and Management System (ADAMS) Accession No. ML053290326. This document may also be found on the NRC's generic communications Web page at http://www.nrc.gov/reading-rm/doc-collections/gen-comm/docs4comment.html.

This Federal Register notice (FRN) is available through the NRC's ADAMS Accession No. ML060610032.

DATES: Comment period expires May 12, 2006. Comments submitted after this date will be considered if it is practical to do so, but assurance of consideration cannot be given except for comments received on or before this date.

ADDRESSES: Submit written comments to the Chief, Rules and Directives Branch, Division of Administrative Services, Office of Administration, U.S. Nuclear Regulatory Commission, Mail Stop T6-D59, Washington, DC 20555-0001, and cite the publication date and page number of this FRN. Written comments may also be delivered to NRC Headquarters, 11545 Rockville Pike (Room T-6D59), Rockville, Maryland, between 7:30 a.m. and 4:15 p.m. on Federal workdays.

FOR FURTHER INFORMATION, CONTACT: Michael B. Norris at 301-415-4098 or by e-mail mbn@nrc.gov.

SUPPLEMENTARY INFORMATION:

NRC Regulatory Issue Summary 2006-XX

Endorsement of Nuclear Energy Institute Guidance “Enhancements to Emergency Preparedness Programs for Hostile Action”

Addressees

All holders of operating licenses for nuclear power reactors, except those who have permanently ceased operations and have certified that fuel has been permanently removed from the reactor vessel.

Intent

The NRC is issuing this regulatory issue summary (RIS) to endorse the NEI guidance entitled “Enhancements to Emergency Preparedness Programs for Hostile Action” (revised in November 2005) as an acceptable implementation methodology that licensees may use when adopting the program enhancements discussed in NRC Bulletin 2005-02, “Emergency Preparedness and Response Actions for Security-Based Events.” This RIS requires no action or written response by addressees.

Background Information

Nuclear power plant emergency preparedness (EP) programs are designed to address a wide range of event scenarios. After the terrorist attacks of September 11, 2001, NRC evaluated the EP planning basis to ensure it continued to protect the public health and safety in the current threat environment. In 2002, NRC issued orders requiring compensatory measures for nuclear security and EP. The NRC staff has reviewed all of the responses to the 2002 orders. The NRC staff has observed licensee performance during security-event-based EP drills and exercises and security force-on-force exercises. The NRC staff has discussed security-related EP issues with Federal, State and local government officials and with licensees. The NRC staff determined that the EP planning basis continues to protect public health and safety, however, the NRC staff recognizes that enhancements are necessary to ensure effective plan implementation during security-related events. Examples of such enhancements include more timely NRC notification, improvement to onsite protective actions and revision of emergency action levels to identify security-related emergencies more succinctly.

The NRC staff issued NRC Bulletin 2005-02 on July 18, 2005, to obtain information from licensees on progress in implementing security-event-related EP program enhancements. The NRC staff's evaluation of licensee responses to the bulletin indicate that all licensees are considering or have implemented enhancements to their programs. NEI developed the attached guidance to clarify the various options available to licensees to implement these enhancements, and requested NRC endorsement in a letter dated November 22, 2005.

Summary of Issue

The NRC staff endorses the NEI guidance entitled “Enhancements to Emergency Preparedness Programs Hostile Action” (May 2005, Revised November 18, 2005). The NEI guidance clarifies issues, enhances emergency action levels and provides implementation methods in support of Bulletin 2005-02. The NEI guidance remains consistent with the intent of the bulletin and is appropriate for licensee use.

The NRC staff recognizes the need for U.S. Department of Homeland Security involvement in drill and exercise program enhancements to ensure appropriate evaluation of security-event-based exercises. It may be appropriate to revise the current Exercise Evaluation Methodology and extent-of-play agreements to ensure the necessary objectives are demonstrated.

Licensees using the NEI guidance to change its emergency plan should ensure that plan changes are coordinated with offsite response organizations. Although the NEI guidance provides an acceptable method for implementing enhancements, a licensee may select other methods. If licensees adopt changes as written in the NEI guidance and Bulletin 2005-02, the NRC staff believes that those changes, on their own, would probably not pose a decrease in effectiveness and could be performed under Title 10 of the Code of Federal Regulations (10 CFR) § 50.54(q) without prior NRC approval. However, licensees have the responsibility to ensure that changes do not decrease the effectiveness of the emergency plans and that the plans, as changed, continue to meet the standards of 10 CFR 50.47(b) and the requirements of Appendix E to 10 CFR Part 50. Other methods for implementing the enhancements may also be acceptable, but should be evaluated by licensees to ensure they do not decrease effectiveness. Proposed changes that decrease the effectiveness of the approved emergency plans may not be implemented without application to, and approval by the NRC.

Backfit Discussion

This RIS endorses NEI guidance entitled “Enhancements to Emergency Preparedness Programs Hostile Action”, November 2005, as an adequate methodology to implement the enhancements discussed in Bulletin 2005. Any action on the part of addressees to use the guidance endorsed by this RIS is strictly voluntary. This RIS does not impose new or modified NRC staff requirements, or prescribe a unique way to comply with the regulations, nor does it require any action or written response. Therefore, this RIS is not a backfit under 10 CFR 50.109 and the NRC staff did not perform a backfit analysis.

Congressional Review Act

This RIS is a rule as designated by the Congressional Review Act (5 U.S.C. 801-808) and, therefore, is subject to the Act.

Federal Register Notification

A notice of opportunity for public comment on this RIS was published in the Federal Register on XX XX XX. Comments were received from the public and comment resolution can be found in the Adams with accession No. YYYYYYY.

Paperwork Reduction Act Statement

This RIS does not contain information collection requirements that are subject to the Paperwork Reduction Act of 1995 (44 U.S.C. 3501 et seq.). Existing collection requirements under 10 CFR Part 50 were approved by the Office of Management and Budget (OMB), approval number 3150-0011. The NRC may not conduct or sponsor, and a person is not required to respond to, an information collection unless the requested document displays a currently valid OMB control number.

Contact

Please direct any questions about this matter to the technical contact listed below.

Christopher I. Grimes, Director, Division of Policy and Rulemaking, Office of Nuclear Reactor Regulation.

Technical Contact: Michael B. Norris, NSIR/DPR/EPD, (301) 415-4098. E-mail: mbn@nrc.gov.

Enclosure: NEI Guidance, “Enhancements to Emergency Preparedness Programs Hostile Action”, May 2005, Revised November 18, 2005.

Note: NRC generic communications may be found on the NRC public Web site, http://www.nrc.gov, under Electronic Reading Room/Document Collections.

End of Draft Regulatory Issue Summary

Documents may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. If you do not have access to ADAMS or if you have problems in accessing the documents in ADAMS, contact the NRC Public Document Room (PDR) reference staff at 1-800-397-4209 or 301-415-4737 or by e-mail to pdr@nrc.gov.

Dated at Rockville, Maryland, this 3rd day of March 2006.
For the Nuclear Regulatory Commission.
Christopher I. Grimes,
Director, Division of Policy and Rulemaking, Office of Nuclear Reactor Regulation.

[FR Doc. 06-2386 Filed 3-10-06; 8:45 am]

BILLING CODE 7590-01-P